DEPARTMENT OF ENERGY

Federal Energy Regulatory Commission

[Docket No. RP01-5-003]

Mid Louisiana Gas Company; Notice of Compliance Filing

April 26, 2001.

Take notice that on April 23, 2001, Mid Louisiana Gas Company (MidLa) filed under protest the following revised tariff sheet in order to comply with an informal request the Commission's Staff. The Staff has requested that MidLa revise such tariff sheet in order to eliminate certain provisions that are duplicative of other provisions in MidLa's tariff. As mandated by Order No. 587-L, the revised tariff sheet is to be effective as of November 1, 2000.

First Fourth Revised Sheet No. 135C

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at ­http://www.ferc.fed.us/efi/doorbell.htm.

David P. Boergers,
Secretary.

[FR Doc. 01-10780 Filed 4-30-01; 8:45 am]

BILLING CODE 6717-01-M